DEPARTMENT OF ENERGY

10 CFR Part 430

[EERE-2019-BT-STD-0039]

RIN 1904-AF60

Energy Conservation Program: Energy Conservation Standards for Dishwashers

AGENCY: Office of Energy Efficiency and Renewable Energy, Department of Energy.

ACTION: Direct final rule; confirmation of effective and compliance dates; technical correction.

SUMMARY: The U.S. Department of Energy (“DOE”) published a direct final rule to establish new energy conservation standards for dishwashers in the Federal Register on April 24, 2024. DOE has determined that the comments received in response to the direct final rule do not provide a reasonable basis for withdrawing the direct final rule. Therefore, DOE provides this document confirming the effective and compliance dates of those standards. This document also clarifies the introductory notes to the appendices for the dishwasher test procedure to conform with the amended standards promulgated by direct final rule published on April 24, 2024. This document also corrects an error in the amended regulatory text as it appeared in the direct final rule published on April 24, 2024.

DATES: The technical correction in this document is effective October 17, 2024.

The effective date of August 22, 2024, for the direct final rule published April 24, 2024 (89 FR 31398) is confirmed. Compliance with the standards established in the direct final rule will be required on April 23, 2027.

ADDRESSES: The docket for this rulemaking, which includes Federal Register notices, public meeting attendee lists and transcripts, comments, and other supporting documents/materials, is available for review at www.regulations.gov. All documents in the docket are listed in the www.regulations.gov index. However, not all documents listed in the index may be publicly available, such as information that is exempt from public disclosure.

The docket web page can be found at www.regulations.gov/docket/EERE-2019-BT-STD-0039. The docket web page contains instructions on how to access all documents, including public comments, in the docket.

For further information on how to submit a comment or review other public comments and the docket, contact the Appliance and Equipment Standards Program staff at (202) 287-1445 or by email: ApplianceStandardsQuestions@ee.doe.gov.

FOR FURTHER INFORMATION CONTACT:

Dr. Carl Shapiro, U.S. Department of Energy, Office of Energy Efficiency and Renewable Energy, Building Technologies Office, EE-5B, 1000 Independence Avenue SW, Washington, DC 20585-0121. Telephone: (202) 287-5649. Email: ApplianceStandardsQuestions@ee.doe.gov.

Ms. Kiana Daw, U.S. Department of Energy, Office of the General Counsel, GC-33, 1000 Independence Avenue SW, Washington, DC 20585-0121. Telephone: (202) 586-4798. Email: kiana.daw@hq.doe.gov.

SUPPLEMENTARY INFORMATION:

Table of Contents

I. Authority

II. Dishwashers Direct Final Rule

A. Background

III. Comments on the Direct Final Rule

A. General Comments

B. Authority To Regulate Water Use

C. Economic Justification

1. Consumer Impacts

2. Product Reliability

3. Repair and Maintenance Costs

D. Significant Conservation of Energy

E. Unavailability of Performance Characteristics

F. Stakeholder Representation

G. Conforming Updates To Test Procedure Introductory Notes

IV. Impact of Any Lessening of Competition

V. Conclusion

I. Authority

The Energy Policy and Conservation Act, Public Law 94-163, as amended (“EPCA”),¹ authorizes DOE to issue a direct final rule establishing an energy conservation standard for a product on receipt of a statement submitted jointly by interested persons that are fairly representative of relevant points of view (including representatives of manufacturers of covered products, States, and efficiency advocates), as determined by the Secretary of Energy (“Secretary”), that contains recommendations with respect to an energy or water conservation standard that are in accordance with the provisions of 42 U.S.C. 6295(o) or 42 U.S.C. 6313(a)(6)(B), as applicable. (42 U.S.C. 6295(p)(4))

¹ All references to EPCA in this document refer to the statute as amended through the Energy Act of 2020, Public Law 116-260 (Dec. 27, 2020), which reflect the last statutory amendments that impact Parts A and A-1 of EPCA.

The direct final rule must be published simultaneously with a notice of proposed rulemaking (“NOPR”) that proposes an energy or water conservation standard that is identical to the standard established in the direct final rule, and DOE must provide a public comment period of at least 110 days on this proposal. (42 U.S.C. 6295(p)(4)(A)-(B)) Not later than 120 days after issuance of the direct final rule, DOE shall withdraw the direct final rule if: (1) DOE receives one or more adverse public comments relating to the direct final rule or any alternative joint recommendation; and (2) based on the rulemaking record relating to the direct final rule, DOE determines that such adverse public comments or alternative joint recommendation may provide a reasonable basis for withdrawing the direct final rule. (42 U.S.C. 6295(p)(4)(C)) If DOE makes such a determination, DOE must proceed with the NOPR published simultaneously with the direct final rule and publish in the Federal Register the reasons why the direct final rule was withdrawn. (Id.)

After review of comments received, DOE has determined that it did receive adverse comments on the direct final rule. However, based on the rulemaking record, the comments did not provide a reasonable basis for withdrawing the direct final rule under the provisions in 42 U.S.C. 6295(p)(4)(C). As such, DOE did not withdraw this direct final rule and the direct final rule remains effective. Although not required under EPCA, where DOE does not withdraw a direct final rule, DOE customarily publishes a summary of the comments received during the 110-day comment period and its responses to those comments. This document contains such a summary, as well as DOE's responses to the comments.

II. Dishwashers Direct Final Rule

A. Background

In a direct final rule published on May 30, 2012 (“May 2012 Direct Final Rule”), DOE adopted the current energy conservation standards for dishwashers manufactured on or after May 30, 2013. 77 FR 31918. These standards are set forth in DOE's regulations at title 10 of the Code of Federal Regulations (“CFR”) section 430.32(f).

The current standards are defined in terms of maximum estimated annual energy use (“EAEU”) in kilowatt hours per year (“kWh/yr”) and maximum per cycle water consumption in gallons per cycle (“gal/cycle”) as measured according to DOE's dishwasher test procedure codified at 10 CFR part 430, subpart B, appendix C1 (“appendix C1”).

In a final determination published on December 13, 2016 (“December 2016 Final Determination”), DOE concluded that amended energy conservation standards would not be economically justified at any level above the standards established in the May 2012 Direct Final Rule, and therefore determined not to amend the standards. 81 FR 90072.

On January 18, 2023, DOE published a final rule (“January 2023 TP Final Rule”) amending the test procedure at appendix C1 and establishing a new test procedure at 10 CFR part 430, subpart B, appendix C2 (“appendix C2”). 88 FR 3234. The new appendix C2 specifies updated annual cycles and low-power mode hours, both of which are used to calculate the EAEU metric, and introduces a minimum cleaning performance threshold to validate the selected test cycle. 88 FR 3234, 3236.

On May 19, 2023, DOE published a NOPR (“May 2023 NOPR”) proposing to amend the current standards for dishwashers, defined in terms of EAEU and per-cycle water consumption as measured according to appendix C2. 88 FR 32514.

On September 25, 2023, DOE received a joint statement (“Joint Agreement”) recommending standards for dishwashers that was submitted by groups representing manufacturers, energy and environmental advocates, consumer groups, and a utility.² In addition to the recommended standards for dishwashers, the Joint Agreement also included separate recommendations for several other covered products.³ The amended standard levels recommended in the Joint Agreement for dishwashers are presented in Table II.1, expressed in terms of EAEU and per-cycle water consumption as measured according to the newly established test procedure contained in appendix C2. Details of the Joint Agreement recommendations for other products are provided in the Joint Agreement posted in the docket for this rulemaking.⁴

² The signatories to the Joint Agreement include the Association of Home Appliance Manufacturers (AHAM), American Council for an Energy Efficient Economy, Alliance for Water Efficiency, Appliance Standards Awareness Project, Consumer Federation of America, Consumer Reports, Earthjustice, National Consumer Law Center, Natural Resources Defense Council, Northwest Energy Efficiency Alliance, and Pacific Gas and Electric Company. Members of AHAM's Major Appliance Division that make the affected products include: Alliance Laundry Systems, LLC; Asko Appliances AB; Beko US Inc.; Brown Stove Works, Inc.; BSH Home Appliances Corporation; Danby Products, Ltd.; Electrolux; Elicamex S.A. de C.V.; Faber; Fotile America; GE Appliances, a Haier Company; L'Atelier Paris Haute Design LLG; LG Electronics; Liebherr USA, Co.; Midea America Corp.; Miele, Inc.; Panasonic Appliances Refrigeration Systems (PAPRSA) Corporation of America; Perlick Corporation; Samsung Electronics America, Inc.; Sharp Electronics Corporation; Smeg S.p.A; Sub-Zero Group, Inc.; The Middleby Corporation; U-Line Corporation; Viking Range, LLC; and Whirlpool Corporation.

³ The Joint Agreement contained recommendations for six covered products: refrigerators, refrigerator-freezers, and freezers; clothes washers; clothes dryers; dishwashers; cooking products; and miscellaneous refrigeration products.

⁴ The Joint Agreement is available in the docket at: www.regulations.gov/comment/EERE-2019-BT-STD-0039-0055.

Table II.1—Recommended Amended Energy Conservation Standards for Dishwashers
Product class | Maximum estimated annual energy use (kWh/year) | Maximum per-cycle water consumption (gal/cycle) | Compliance date
Standard-Size Dishwasher (≥8 place settings plus 6 serving pieces) | 223 | 3.3 | 3 years after publication of the direct final rule.
Compact-Size Dishwasher (<8 place settings plus 6 serving pieces) | 174 | 3.1

After carefully considering the recommended energy conservation standards for dishwashers in the Joint Agreement, DOE determined that these recommendations were in accordance with the statutory requirements of 42 U.S.C. 6295(p)(4) for the issuance of a direct final rule and published a direct final rule on April 24, 2024 (“April 2024 Direct Final Rule”). 89 FR 31398. DOE evaluated whether the Joint Agreement satisfies 42 U.S.C. 6295(o), as applicable, and found that the recommended standard levels would, among other things, result in significant energy savings and are technologically feasible and economically justified. Id. at 89 FR 31471-31478. Accordingly, DOE adopted the recommended efficiency levels for dishwashers as the amended standard levels in the April 2024 Direct Final Rule. Id.

The maximum EAEU and maximum water consumption standards adopted in the April 2024 Direct Final Rule apply to product classes listed in Table II.2 and that are manufactured in, or imported into, the United States starting on April 23, 2027. The April 2024 Direct Final Rule provides a detailed discussion of DOE's analysis of the benefits and burdens of the amended standards pursuant to the criteria set forth in EPCA. Id.

Table II.2—Amended Energy Conservation Standards for Dishwashers
[Compliance Starting April 23, 2027]
Product class | Estimated annual energy use (kWh/year) | Per-cycle water consumption (gal/cycle)
Standard-size ¹ (≥8 place settings plus 6 serving pieces) ² | 223 | 3.3
Compact-size (<8 place settings plus 6 serving pieces) ² | 174 | 3.1
¹ The energy conservation standards in this table do not apply to standard-size dishwashers with a cycle time for the normal cycle of 60 minutes or less.
² Place settings are as specified in AHAM DW-1-2020 (which is incorporated by reference, see § 430.3) and the test load is as specified in section 2.4 of appendix C2 to subpart B of part 430.

As required by EPCA, DOE also simultaneously published a NOPR proposing the identical standard levels contained in the April 2024 Direct Final Rule. 89 FR 31096. DOE considered whether any adverse comment received during the 110-day comment period following the publication of the April 2024 Direct Final Rule provided a reasonable basis for withdrawal of the direct final rule under the provisions in 42 U.S.C. 6295(p)(4)(C).

III. Comments on the Direct Final Rule

As discussed in section I of this document, not later than 120 days after publication of a direct final rule, DOE shall withdraw the direct final rule if: (1) DOE receives one or more adverse public comments relating to the direct final rule or any alternative joint recommendation; and (2) based on the rulemaking record relating to the direct final rule, DOE determines that such adverse public comments or alternative joint recommendation may provide a reasonable basis for withdrawing the direct final rule. (42 U.S.C. 6295(p)(4)(C)(i))

DOE received comments in response to the April 2024 Direct Final Rule from the interested parties listed in Table III.1.⁵

⁵ Table III.1 excludes one comment received from Clean Future that is not directly related to this rulemaking.

Table III.1—List of Commenters With Written Submissions in Response to the April 2024 Direct Final Rule
Commenter(s) | Abbreviation | Comment number in the docket | Commenter type
Association of Home Appliance Manufacturers | AHAM | 76 | Trade Association.
Appliance Standards Awareness Project, Alliance for Water Efficiency, American Council for an Energy-Efficient Economy, Consumer Federation of America, Consumer Reports, Earthjustice, National Consumer Law Center, Natural Resources Defense Council, Northwest Energy Efficiency Alliance, and Pacific Gas and Electric Company | ASAP et al. | 74 | Advocacy Organizations.
Consumer Federation of America, Consumer Reports, Green Energy Consumers Alliance, National Consumer Law Center, and U.S. Public Interest Research Group | CFA et al. | 75 | Advocacy Organizations.
Chris Bruno | Bruno | 70 | Individual.
Clean Future | Clean Future | 71, 72 | Advocacy Organization.
Bill Word and David Daquin | Word and Daquin | * 68, 69 | Individual.
* Comments No. 68 and 69 are identical. DOE cites comment 68 in this document.

A parenthetical reference at the end of a comment quotation or paraphrase provides the location of the item in the public record.⁶ The following sections discuss the substantive comments DOE received on the April 2024 Direct Final Rule as well as DOE's determination that the comments do not provide a reasonable basis for withdrawal of the direct final rule.

⁶ The parenthetical reference provides a reference for information located in the docket of DOE's rulemaking to develop energy conservation standards for dishwashers. (Docket No. EERE-2019-BT-STD-0039, which is maintained at: www.regulations.gov). The references are arranged as follows: (commenter name, comment docket ID number at page of that document).

A. General Comments

AHAM and ASAP et al. supported the April 2024 Direct Final Rule for dishwashers because it establishes standards that are consistent with recommendations submitted in the Joint Agreement. (AHAM, No. 76 at p. 1; ASAP et al., No. 74 at pp. 1-2) AHAM commented that it finds DOE has satisfied all EPCA criteria for issuing the April 2024 Direct Final Rule because the recommended energy conservation standards were designed by the Joint Stakeholders (including manufacturers of various sizes as well as consumer, environmental, and efficiency advocacy groups; a utility; and some States) to achieve the maximum improvement in energy efficiency that is technologically feasible and economically justified in accordance with the provisions of 42 U.S.C. 6295(o); and because DOE issued the April 2024 Direct Final Rule with a proposed rule identical to the standard established in the April 2024 Direct Final Rule and allowed 110 days for public comment, which is consistent with EPCA requirements. AHAM agreed with DOE's determination that the amended energy and water conservation standard levels in the April 2024 Direct Final Rule can be reached through technology options DOE identified in its direct final rule or through other pathways. (AHAM, No. 76 at pp. 4, 5-6)

AHAM further commented that DOE satisfactorily responded to AHAM's comments and concerns regarding dishwasher performance, the economic value of water, consideration of low-income consumers, new Energy Information Administration's (“EIA's”) Residential Energy Consumption Survey (“RECS”) 2020 data, consideration of well and septic system users, and cumulative regulatory burden. (AHAM No. 76 at pp. 2-3) AHAM stated that the compliance timeline reduces the cumulative regulatory burden of this rulemaking and those for other major appliances. (AHAM, No. 76 at p. 6)

CFA et al. supported the April 2024 Direct Final Rule, which they noted is one of many completed and pending efficiency standards that will together significantly reduce consumer costs and climate pollution, as well as reduce emissions of nitrogen oxides, which can cause health issues. (CFA et al., No. 75 at pp. 1-2)

Clean Future supported the proposed regulations, in particular the detailed outline of new environmental guidelines that demonstrate a forward-looking approach to combating climate change and its effects. (Clean Future, No. 71 at p. 1) Clean Future also commented that the revised standards will yield significant energy savings, are technologically feasible, and are economically justified. (Clean Future, No. 72 at p. 1)

DOE received a comment from one individual commenter who expressed support for the standards promulgated in the April 2024 Direct Final Rule. (Bruno, No. 70 at p. 1)

As discussed in more detail below, DOE has determined that these comments do not provide a reasonable basis to withdraw the April 2024 Direct Final Rule.

B. Authority To Regulate Water Use

DOE received comments regarding DOE's statutory authority to regulate the water use of dishwashers.

Word and Daquin commented that DOE has gone beyond its statutory authority in increasing water efficiency standards of certain consumer appliances without lawful authority. Word and Daquin asserted that DOE lacks the authority to increase the stringency of water use standards for products other than showerheads, faucets, water closets, and urinals. (Word & Daquin, No. 68 at p. 1)

Word and Daquin also commented that based on the history of EPCA and the recent ruling of the Fifth Circuit Court of Appeals, DOE does not have the authority to regulate the water use of dishwashers. Word and Daquin commented the Fifth Circuit recognized that “No part of [EPCA] indicates Congress gave DOE power to regulate water use for energy-using appliances.” Louisiana v. United States Dep't of Energy, 90 F.4th 461, 471 (5th Cir. 2024). Word and Daquin also noted that according to the Fifth Circuit, “EPCA does not appear to contemplate overlap between the products subject to `energy' regulation and those subject to `water' regulation,” noting that this is because the statute authorized DOE to regulate “energy use, or, [. . .] water use,” and “[t]he word `or' is almost always disjunctive.” Id. at 470-471 (quoting Encino Motorcars, LLC v. Navarro, 584 U.S. 79, 80 (2018)). (Word & Daquin, No. 68 at pp. 1-4)

AHAM commented that a dishwasher is a holistic system that is optimized by being able to manipulate both water levels and electricity levels to get the best performance with the least amount of energy, and that DOE's regulation of energy efficiency and water use together supports manufacturers' ability to create high performing and highly efficient wash systems. AHAM stated that it had supported the Energy Independence and Security Act of 2007, which it described as providing DOE with the authority to regulate water use for dishwashers because water use is intricately linked to energy usage. AHAM added that disconnecting these authorities would significantly increase regulatory burden and would make designing products more difficult if authority to set water standards rested with individual states. (AHAM, No. 76 at p. 5)

As discussed in the April 2024 Direct Final Rule, EPCA prescribed energy conservation standards with both energy and water use requirements for dishwashers. 89 FR 31398, 31406. In establishing energy conservation standards with both energy and water use performance standards for dishwashers manufactured after 2010, Congress also directed DOE to “determin[e] whether to amend” those standards. (42 U.S.C. 6295(g)(10)(B)) Congress's directive, in section 6295(g)(10)(B), to consider whether “to amend the standards for dishwashers” refers to “the standards” established in the immediately preceding section, 6295(g)(10)(A), where Congress established energy conservation standards with both energy and water use performance standards for dishwashers. Indeed, the energy and water use performance standards for dishwashers (both standard-size and compact-size) are each contained within a single subparagraph. See id. Accordingly, DOE's authority, under section 6295(g)(10)(B), includes consideration of amended energy and water use performance standards for dishwashers.

Similarly, DOE's authority under 42 U.S.C. 6295(m) to amend “standards” for covered products includes amending both the energy and water use performance standards for dishwashers. Neither section 6295(g)(10)(B) nor section 6295(m) limit their application to “energy use standards.” Rather, they direct DOE to consider amending “the standards,” 42 U.S.C. 6295(g)(10)(B), or simply “standards,” Id. section 6295(m)(1)(B), which may include both energy and water use performance standards.

C. Economic Justification

DOE must follow specific statutory criteria for prescribing new or amended standards for covered products, including dishwashers. Any new or amended standard for a covered product must be designed to achieve the maximum improvement in energy efficiency that the Secretary determines is technologically feasible and economically justified. (42 U.S.C. 6295(o)(2)(A)) In deciding whether a proposed standard is economically justified, DOE must determine whether the benefits of the standard exceed its burdens. (42 U.S.C. 6295(o)(2)(B)(i)) DOE must make this determination after receiving comments on the proposed standard, and by considering, to the greatest extent practicable, the following seven statutory factors:

(1) The economic impact of the standard on manufacturers and consumers of the products subject to the standard;

(2) The savings in operating costs throughout the estimated average life of the covered products in the type (or class) compared to any increase in the price, initial charges, or maintenance expenses for the covered products that are likely to result from the standard;

(3) The total projected amount of energy (or as applicable, water) savings likely to result directly from the standard;

(4) Any lessening of the utility or the performance of the covered products likely to result from the standard;

(5) The impact of any lessening of competition, as determined in writing by the Attorney General, that is likely to result from the standard;

(6) The need for national energy and water conservation; and

(7) Other factors the Secretary considers relevant.

(42 U.S.C. 6295(o)(2)(B)(i)(I)-(VII))

DOE received several comments on its determination of economic justification under the statutory criteria.

1. Consumer Impacts

AHAM commented that under the standards adopted in the April 2024 Direct Final Rule, only 3 percent of consumers would experience a net cost. (AHAM, No. 76 at p. 4)

ASAP et al. commented that the amended standards will particularly benefit low-income consumers, who spend three times more of their income on energy costs compared to non-low-income households. ASAP et al. commented that the standards will also benefit renters, whose landlords might not otherwise purchase energy-saving dishwashers. (ASAP et al., No. 74 at p. 2)

CFA et al. commented that many dishwashers on the market today do not use up-to-date technology for water and energy efficiency, and that most dishwashers on the market that do not currently meet the standards could do so through improved control strategies, requiring no incremental cost to consumers. CFA et al. commented that renters, who are disproportionately low-income households, are often unable to choose their dishwasher yet must pay the utility bills, creating a split-incentive problem particularly acute in multifamily housing, for which nearly 90 percent of households are renters. CFA et al. noted that the amended standards will reduce energy use by about 15 percent relative to the least efficient dishwashers sold today while cutting water waste, with a payback period for standard-size dishwashers of 1.6 years. (CFA et al., No. 75 at p. 1)

DOE did not receive any adverse comments in relation to consumer impacts. DOE reiterates its determination from the April 2024 Direct Final Rule that the standards adopted in the direct final rule are economically justified. 89 FR 31398, 31477-31478.

2. Product Reliability

ASAP et al. commented that they did not expect the standards in the April 2024 Direct Final Rule to have any impact on product reliability because the amended standards can be met with simple design changes that have already been incorporated in many models on the market today. ASAP et al. presented a figure of historical data from EIA's RECS showing that the distribution of dishwasher age remained largely unchanged between 2005 and 2020, as dishwasher efficiency improved. (ASAP et al., No. 74 at pp. 2, 3-4)

AHAM commented that the recommended standards are economically justified as required by 42 U.S.C. 6295(o)(2)(B)(i)(I) and will not result in lessening of utility, reliability, performance, or availability of dishwashers considered under 42 U.S.C. 6295(o)(2)(B)(i)(IV). (AHAM, No. 76 at p. 4)

DOE did not receive any adverse comments in relation to product reliability. DOE reiterates its determination from the April 2024 Direct Final Rule that the standards adopted in the direct final rule will not lessen the utility or performance of dishwashers. 89 FR 31398, 31464-31467.

3. Repair and Maintenance Costs

An individual recommended that DOE factor the repairability and maintenance of an appliance into its economic and environmental impact. (Bruno, No. 70 at p. 1)

DOE did take into account the cost of repair associated with each analyzed efficiency level in the April 2024 Direct Final Rule. As discussed in the April 2024 Direct Final Rule, DOE determined that routine maintenance costs would not vary with increased efficiency. See 89 FR 31398, 31430.

D. Significant Conservation of Energy

Pursuant to EPCA, any new or amended standard must result in significant conservation of energy. (42 U.S.C. 6295(o)(3)(B))

AHAM noted that DOE's analysis found significant energy and water savings, as required under EPCA. (AHAM, No. 76 at p. 4)

ASAP et al. commented that as estimated by the Joint Stakeholders, the new standards for dishwashers will cost-effectively reduce energy consumption by 15 percent relative to the current standards while also cutting water waste. ASAP et al. added that on a national level, the Joint Stakeholders estimate the standards will save 0.31 quadrillion British thermal units (“Btu”) of energy and 240 billion gallons of water over 30 years of shipments and cut carbon dioxide emissions by 9.5 million metric tons. (ASAP et al., No. 74 at p. 2)

In summary, DOE did not receive any adverse comments in relation to the significant conservation of energy. DOE reiterates its determination from the April 2024 Direct Final Rule that the energy savings from the standard levels adopted in this direct final rule are “significant” within the meaning of 42 U.S.C. 6295(o)(3)(B). 89 FR 31398, 31405, 31413.

E. Unavailability of Performance Characteristics

EPCA specifies the Secretary may not prescribe an amended or new standard if interested persons have established by a preponderance of the evidence that the standard is likely to result in the unavailability in the United States in any covered product type (or class) of performance characteristics (including reliability), features, sizes, capacities, and volumes that are substantially the same as those generally available in the United States. (42 U.S.C. 6295(o)(4))

Word and Daquin commented that they are harmed by the April 2024 Direct Final Rule because their choice of preferred dishwasher would be eliminated by the rule. Word and Daquin recommended that DOE repeal the April 2024 Direct Final Rule and withdraw the proposed rule. (Word & Daquin, No. 68 at p. 10)

DOE notes that Word and Daquin did not provide any specifics regarding the dishwasher features that would be eliminated by the April 2024 Direct Final Rule or why these features and products would be eliminated by amended standards.

In contrast, ASAP et al. commented that the standards adopted in the April 2024 Direct Final Rule will not negatively impact drying performance, will not require an increase in cycle time, and combined with the cleaning performance requirements specified in Appendix C2, will ensure new dishwashers provide good cleaning performance. ASAP et al. noted that according to DOE, standard-size dishwashers of efficiencies up to efficiency level 3 (“EL 3”) can achieve the specified cleaning index threshold, while DOE only adopted EL 2 as the amended standard level. ASAP et al. also stated that nearly 500 standard-size dishwasher models meet the more stringent (i.e., EL 3) ENERGY STAR Version 7.0 specification,⁷ demonstrating a wide availability of dishwashers that both meet the amended standards and provide good cleaning performance. (ASAP et al., No. 74 at pp. 2-3) ASAP et al. also noted that the test procedures used only the normal cycle, so manufacturers will continue to be able to offer short-cycle options, which will not be impacted by the standards. (ASAP et al., No. 74, at p. 3)

⁷ ENERGY STAR Version 7.0 Program Requirements available at: https://www.energystar.gov/sites/default/files/asset/document/ENERGY%20STAR%20Version%207.0%20Residential%20Dishwasher%20Final%20Specification_1.pdf.

ASAP et al. further commented that there is no evidence that the frequency of behaviors such as prerinsing, handwashing, or running multiple cycles has increased or will increase due to the amended standards. ASAP et al. cited RECS data that indicates the average number of cycles per year has declined over time and a Consumer Reports article that states most modern, efficient dishwashers work better without prerinsing. (ASAP et al., No. 74 at p. 3)

AHAM commented that the energy conservation standards adopted in the April 2024 Direct Final Rule will not result in significant lessening of utility, reliability, performance, or availability of the covered products as prohibited under the so-called “safe harbor” exception of 42 U.S.C. 6295(o)(2)(B)(IV). (AHAM, No. 76 at pp. 4-5) AHAM stated that products on the market have demonstrated capability of achieving the standards while retaining consumer satisfaction with a range of performance considerations; and more than 400 dishwasher models are currently certified to the more stringent ENERGY STAR Version 7.0 level. AHAM noted that DOE's test procedure, confirmatory testing data, confidential interviews, and ENERGY STAR's performance requirements reinforce that the amended standards will not negatively impact dishwasher performance. (AHAM, No. 76 at pp. 1-2)

DOE reiterates its determination from the April 2024 Direct Final Rule that the amended standards will not result in the unavailability of products that are substantially the same as those currently available in the United States, and the amended standards will not reduce the utility or performance of dishwashers. 89 FR 31398, 31413, 31464-31468. Therefore, DOE has determined that the comment provided by Word and Daquin do not provide a reasonable basis for withdrawal of the April 2024 Direct Final Rule.

F. Stakeholder Representation

Under 42 U.S.C. 6295(p)(4), interested persons that are fairly representative of relevant points of view (including representatives of manufacturers of covered products, States, and efficiency advocates), as determined by DOE, may submit a joint recommendation to DOE for new or amended energy conservation standards.

AHAM commented that the stakeholders who submitted the Joint Agreement are representative of a wide range of expert and relevant points of view—including manufacturers of various sizes representing nearly 100 percent of the market for dishwashers; consumer, environmental, and efficiency advocacy groups; a utility; and several States that participated in the negotiation discussions and filed comments in support of the agreement. AHAM concluded that the April 2024 Direct Final Rule benefits both the manufacturers and consumers that these organizations represent. (AHAM, No. 76 at p. 3)

DOE did not receive any adverse comments with regard to stakeholder representation. DOE reaffirms its determination that the Joint Agreement was submitted by interested persons that are fairly representative of relevant points of view.

G. Conforming Updates to Test Procedure Introductory Notes

The test procedures at appendix C1 and appendix C2 contain introductory notes that specify the dates of applicability of each test procedure. Among other details, these introductory notes currently specify the following:

• Since January 23, 2024, manufacturers must use results of testing under appendix C1 to determine compliance with the relevant standard from 10 CFR 430.32(f)(1) as it appeared in the January 1, 2023 edition of 10 CFR parts 200-499.

• Manufacturers must use the results of testing under appendix C2 to determine compliance with any amended standards for dishwashers provided in 10 CFR 430.32(f)(1) that are published after January 1, 2023.

The April 2024 Direct Final Rule codified the amended standards promulgated by the April 2024 Direct Final Rule at 10 CFR 430.32(f)(2).

Accordingly, in this document, DOE updates the introductory notes to both appendices C1 and appendix C2 to specify that use of appendix C2 is required to demonstrate compliance with the amended standards codified at 10 CFR 430.32(f)(2).

IV. Impact of Any Lessening of Competition

EPCA directs DOE to consider any lessening of competition that is likely to result from new or amended standards. (42 U.S.C. 6295(p)(4)(A)(i) and (C)(i)(II); 42 U.S.C. 6295(o)(2)(B)(i)(V)) It also directs the Attorney General of the United States (“Attorney General”) to determine the impact, if any, of any lessening of competition likely to result from a proposed standard and to transmit such determination to the Secretary within 60 days of the publication of a proposed rule, together with an analysis of the nature and extent of the impact. (42 U.S.C. 6295(o)(2)(B)(i)(V) and (B)(ii)) To assist the Attorney General in making this determination, DOE provided the Department of Justice (“DOJ”) with copies of the April 2024 Direct Final Rule, the corresponding NOPR, and the April 2024 Direct Final Rule Technical Support Document for review. DOE has published DOJ's comments at the end of this document.

In its letter responding to DOE, DOJ concluded that, based on its review, the direct final rule standards for dishwashers are unlikely to have significant adverse impact on competition.

V. Conclusion

In summary, based on the previous discussion, DOE has determined that the comments received in response to the direct final rule for new energy conservation standards for dishwashers do not provide a reasonable basis for withdrawal of the direct final rule. As a result, the energy conservation standards set forth in the direct final rule became effective on August 22, 2024. Compliance with these standards is required on and after April 23, 2027.

List of Subjects in 10 CFR Part 430

Administrative practice and procedure, Confidential business information, Energy conservation, Household appliances, Imports, Intergovernmental relations, Reporting and recordkeeping requirements, and Small businesses.

Signing Authority

This document of the Department of Energy was signed on October 10, 2024, by Jeffrey Marootian, Principal Deputy Assistant Secretary for Energy Efficiency and Renewable Energy, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on October 10, 2024.
Treena V. Garrett,
Federal Register Liaison Officer, U.S. Department of Energy.

For the reasons set forth in the preamble, DOE amends part 430 of chapter II, subchapter D, of title 10 of the Code of Federal Regulations, to read as set forth below:

PART 430—ENERGY CONSERVATION PROGRAM FOR CONSUMER PRODUCTS

1. The authority citation for part 430 continues to read as follows:

Authority: 42 U.S.C. 6291-6309; 28 U.S.C. 2461 note.

2. Amend appendix C1 to subpart B of part 430 by revising the introductory note to read as follows:

Appendix C1 to Subpart B of Part 430—Uniform Test Method for Measuring the Energy Consumption of Dishwashers

Note: Manufacturers must use the results of testing under this appendix to determine compliance with the relevant standards provided at § 430.32(f)(1).

Manufacturers must use the results of testing under appendix C2 to this subpart to determine compliance with the amended standards for dishwashers provided at § 430.32(f)(2). Manufacturers may use appendix C2 to certify compliance with the standards provided at § 430.32(f)(2) prior to the applicable compliance date for those standards.

Any representations related to energy or water consumption of dishwashers must be made in accordance with the appropriate appendix that applies (i.e., appendix C1 or appendix C2) when determining compliance with the relevant standards.

The regulation at 10 CFR 429.19(b)(3) provides instructions regarding the combination of detergent and detergent dosing, specified in section 2.5 of this appendix, used for certification.

* * * * *

3. Amend appendix C2 to subpart B of part 430 by revising the introductory note to read as follows:

Appendix C2 to Subpart B of Part 430—Uniform Test Method for Measuring the Energy Consumption of Dishwashers

Note: Manufacturers must use the results of testing under this appendix to determine compliance with the relevant standards provided at § 430.32(f)(2). Manufacturers may use this appendix to certify compliance with the standards provided at § 430.32(f)(2) prior to the applicable compliance date for those standards.

Any representations related to energy or water consumption of dishwashers must be made in accordance with the appropriate appendix that applies (i.e., appendix C1 or appendix C2) when determining compliance with the relevant standards.

* * * * *

Note: The following appendix will not appear in the Code of Federal Regulations.

Appendix A

June 21, 2024

Ami Grace-Tardy

Assistant General Counsel for Legislation,

Regulation and Energy Efficiency

U.S. Department of Energy

Ami.Grace-Tardy@hq.doe.gov

Re: Energy Conservation Standards for Dishwashers Docket EERE-2019-BT-STD-0039

Dear Assistant General Counsel Grace-Tardy:

I am responding to your April 24, 2024 letter seeking the views of the Attorney General about the potential impact on competition of proposed energy conservation standards for dishwashers.

Your request was submitted under Section 325(o)(2)(B)(i)(V) of the Energy Policy and Conservation Act, as amended (EPCA), 42 U.S.C. 6295(o)(2)(B)(i)(V) and 42 U.S.C. 6316(a), which requires the Attorney General to make a determination of the impact of any lessening of competition that is likely to result from the imposition of proposed energy conservation standards. The Attorney General's responsibility for responding to requests from other departments about the effect of a program on competition has been delegated to the Assistant Attorney General for the Antitrust Division in 28 CFR 0.40(g). The Assistant Attorney General for the Antitrust Division has authorized me, as the Policy Director for the Antitrust Division, to provide the Antitrust Division's views regarding the potential impact on competition of proposed energy conservation standards on his behalf.

In conducting its analysis, the Antitrust Division examines whether a proposed standard may lessen competition, for example, by substantially limiting consumer choice or increasing industry concentration. A lessening of competition could result in higher prices to manufacturers and consumers.

We have studied in detail the Notice of Proposed Rulemaking regarding dishwashers, as well as the Technical Support Document (TSD) that accompanied it, both of which you transmitted to us under cover of your April 24 letter. We also have reviewed the one public comment and reviewed the docket.

Based on this review, our conclusion is that the proposed energy conservation standards for dishwashers are unlikely to have a significant adverse impact on competition.

Sincerely,

David G.B. Lawrence,

Policy Director.

[FR Doc. 2024-23908 Filed 10-16-24; 8:45 am]

BILLING CODE 6450-01-P